NATIONAL AERONAUTICS AND SPACE ADMINISTRATION

[Notice 23-004]

NASA Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Tuesday, February 28, 2023, 10 a.m. to 6 p.m., and Wednesday, March 1, 2023, 10 a.m. to 6 p.m., Eastern Time.

ADDRESSES: NASA Headquarters, Room 3D42, 300 E Street SW, Washington, DC 20546.

FOR FURTHER INFORMATION CONTACT: Ms. KarShelia Kinard, Science Mission Directorate, NASA Headquarters, Washington, DC 20546, (202) 358-2355 or karshelia.kinard@nasa.gov.

SUPPLEMENTARY INFORMATION: The meeting will be open to the public up to the capacity of the room. The meeting will also be available telephonically and via WebEx.

For Tuesday, February 28, 2023, the WebEx information for attendees is: https://nasaenterprise.webex.com/nasaenterprise/j.php?MTID=m1c312330093cb5f009b45ec32158c1c5. The Webinar number is: 2764 488 2669 and the Webinar password is: PAC-feb28 (72203323 from phones). To join by telephone call, use US Toll: +1-415-527-5035 (Access Code: 276 448 82669).

For Wednesday, March 1, 2023, the WebEx information for attendees is: https://nasaenterprise.webex.com/nasaenterprise/j.php?MTID=md4b3e38b55c8c93900fe725cf4aa1cc3. The Webinar number is: 2764 650 1097 and the Webinar password is: PAC-mar1 (72206272 from phones). To join by telephone call, use US Toll: +1-415-527-5035 (Access code: 276 465 01097).

Accessibility: Captioning will be provided for this meeting. We are committed to providing equal access to this meeting for all participants. If you need alternative formats or other reasonable accommodations, please contact Ms. KarShelia Kinard, Science Mission Directorate, NASA Headquarters, Washington, DC 20546, (202) 358-2355 or karshelia.kinard@nasa.gov.

The agenda for the meeting includes the following topics:

—Planetary Science Division Update

—Planetary Science Division Research and Analysis Program Update

It is imperative that the meeting be held on these dates to accommodate the scheduling priorities of the key participants.

Patricia Rausch,
Advisory Committee Management Officer, National Aeronautics and Space Administration.

[FR Doc. 2023-02443 Filed 2-3-23; 8:45 am]

BILLING CODE 7510-13-P